DEPARTMENT OF COMMERCE

National Oceanic and Atmospheric Administration

[RTID 0648-XE161]

Nominations for Advisory Committee and Species Working Group Technical Advisor Appointments to the U.S. Section to the International Commission for the Conservation of Atlantic Tunas

AGENCY: National Marine Fisheries Service (NMFS), National Oceanic and Atmospheric Administration (NOAA), Commerce.

ACTION: Notice of request for nominations.

SUMMARY: NMFS is soliciting nominations (which may include self-nominations) to the Advisory Committee to the U.S. Section to the International Commission for the Conservation of Atlantic Tunas (ICCAT) as established by the Atlantic Tunas Convention Act (ATCA). NMFS is also soliciting nominations for Technical Advisors to the Advisory Committee's species working groups.

DATES: Nominations must be received by September 13, 2024.

ADDRESSES: Nominations, including a letter of interest and a resume or curriculum vitae, should be sent via email to Bryan Keller at bryan.keller@noaa.gov. Include in the subject line whether the nomination is for a position as an Advisory Committee member or as a Technical Advisor to one of the Committee's species working groups.

FOR FURTHER INFORMATION CONTACT: Bryan Keller, Office of International Affairs, Trade, and Commerce; email: bryan.keller@noaa.gov; phone: 301-427-7725.

SUPPLEMENTARY INFORMATION:

The Convention and the Commission

ICCAT was established to provide an effective program of international cooperation in research and conservation in recognition of the unique problems related to the highly migratory nature of tunas and tuna-like species. The International Convention for the Conservation of Atlantic Tunas (Convention), which established ICCAT, entered into force in 1969. ICCAT usually holds an Annual Meeting in November of each year, and convenes meetings of its working groups and other subsidiary bodies between annual meetings as needed. Under ATCA (see 16 U.S.C. 971a), the United States is represented at ICCAT by not more than three U.S. Commissioners. Additional information about ICCAT is available at www.iccat.int.

Advisory Committee to the U.S. Section to ICCAT and its Species Working Groups

ATCA (see 16 U.S.C. 971 et seq.) establishes an advisory committee comprising: (1) Not less than 5 nor more than 20 individuals appointed by the U.S. Commissioners to ICCAT who shall select such individuals from the various groups concerned with the fisheries covered by the ICCAT Convention; and (2) the chairs (or their designees) of the New England, Mid-Atlantic, South Atlantic, Caribbean, and Gulf of Mexico Fishery Management Councils. Each member of the Advisory Committee shall serve for a term of 2 years and be eligible for reappointment. The Committee meets at least twice a year during which members receive information and provide advice on ICCAT-related matters. All members of the Advisory Committee are appointed in their individual professional capacity and undergo a background screening. Any individual appointed to the Committee who is unable to attend all or part of an Advisory Committee meeting may not appoint another person to attend such meetings as his or her proxy. Nominees should be able to fulfill the time and travel commitments required to participate in the Committee's annual spring and fall meetings, in addition to ad hoc meetings as necessary throughout the year. The annual spring and fall meetings are normally 2 days long and are usually held in Silver Spring, Maryland, or Miami, Florida.

Members of the Advisory Committee receive no compensation for their services. The Secretary of Commerce and the Secretary of State may pay the necessary travel expenses of members of the Advisory Committee. The terms of all currently appointed Advisory Committee members expire on December 31, 2024. NMFS is soliciting nominees to serve as members of the Advisory Committee for a term of 2 years that will begin January 1, 2025, and expire December 31, 2026.

ATCA specifies that the U.S. Commissioners may establish species working groups for the purpose of providing advice and recommendations to the U.S. Commissioners and to the Advisory Committee on matters relating to the conservation and management of any highly migratory species covered by the ICCAT Convention (see 16 U.S.C. 971b-1). Any species working group shall consist of no more than seven members of the Advisory Committee and no more than four scientific or technical personnel, as considered necessary by the Commissioners. Currently, there are four species working groups advising the Committee and the U.S. Commissioners: a Bluefin Tuna and Albacore Working Group, a Swordfish/Sharks Working Group, a Billfish Working Group, and a Bigeye, Yellowfin, and Skipjack Tunas Working Group. Scientific or technical personnel (known as Technical Advisors) appointed to species working groups serve at the pleasure of the Commissioners; therefore, the Commissioners can choose to alter these appointments at any time. As with Committee Members, Technical Advisors may not be represented by a proxy during meetings of the Advisory Committee. Nominees should be able to fulfill the time and travel commitments required to participate in the annual spring meeting of the Advisory Committee, when the species working groups are convened, in addition to ad hoc meetings throughout the year, as appropriate.

Procedure for Submitting Nominations

Nominations to either the Advisory Committee or a species working group should include a letter of interest and a resume or curriculum vitae that describes the individual's knowledge and experience in a field related to the highly migratory species covered by the ICCAT Convention. Self-nominations are acceptable. Letters of recommendation are useful but not required. When making a nomination, please specify which appointment (Advisory Committee member or Technical Advisor to a species working group) is being sought. Nominees are also encouraged to indicate which of the four species working groups is preferred, although placement on the requested group is not guaranteed.

NMFS encourages nominations for women and for individuals from underserved communities that meet the knowledge, experience, and other requirements of the positions described in this notice. See Executive Order (E.O.) 13985 (Advancing Racial Equity and Support for Underserved Communities Through the Federal Government) section 2 (defining “underserved communities” as populations sharing a particular characteristic, as well as geographic communities, that have been systematically denied a full opportunity to participate in aspects of economic, social, and civic life, such as Black, Latino, and Indigenous and Native American persons, Asian Americans and Pacific Islanders and other persons of color; members of religious minorities; lesbian, gay, bisexual, transgender, and queer (LGBTQ+) persons; persons with disabilities; persons who live in rural areas; and persons otherwise adversely affected by persistent poverty or inequality.). E.O. 13985 is available at https://www.federalregister.gov/documents/2021/01/25/2021-01753/advancing-racial-equity-and-support-for-underserved-communities-through-the-federal-government.

Dated: August 2, 2024.
Alexa Cole,
Director, Office of International Affairs, Trade, and Commerce, National Marine Fisheries Service.

[FR Doc. 2024-17448 Filed 8-6-24; 8:45 am]

BILLING CODE 3510-22-P